DEPARTMENT OF EDUCATION

National Institute on Disability and Rehabilitation Research—Disability and Rehabilitation Research Projects and Centers Program—Spinal Cord Injury Model Systems Centers (SCIMS Centers) and Disability Rehabilitation Research Projects (DRRPs)

AGENCY: Office of Special Education and Rehabilitative Services, Department of Education.

ACTION: Notice of proposed priorities for SCIMS Centers and DRRPs.

SUMMARY: The Assistant Secretary for Special Education and Rehabilitative Services proposes certain funding priorities and a selection criterion for the Disability and Rehabilitation Research Projects and Centers Program administered by the National Institute on Disability and Rehabilitation Research (NIDRR). Specifically, this notice proposes a priority for Spinal Cord Injury Model Systems Centers (SCIMS centers) and a priority and selection criterion for Disability and Rehabilitation Research Projects (DRRPs). The Assistant Secretary may use these priorities and selection criterion for competitions in fiscal year (FY) 2006 and later years. We take this action to focus research attention on areas of national need. We intend these priorities and selection criterion to improve rehabilitation services and outcomes for individuals with disabilities.

DATES: We must receive your comments on or before January 12, 2006.

ADDRESSES: Address all comments about these proposed priorities and selection criterion to Donna Nangle, U.S. Department of Education, 400 Maryland Avenue, SW., room 6030, Potomac Center Plaza, Washington, DC 20204-2700. If you prefer to send your comments through the Internet, use the following address: donna.nangle@ed.gov or NIDRR.comments@ed.gov.

You must include the term “Notice of proposed priorities for SCIMS Centers and DRRPs” in the subject line of your electronic message.

FOR FURTHER INFORMATION CONTACT: Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: This notice of proposed priorities is in concert with President George W. Bush's New Freedom Initiative (NFI) and NIDRR's Proposed Long-Range Plan for FY 2005-2009 (Plan). The NFI can be accessed on the Internet at the following site: http://www.whitehouse.gov/infocus/newfreedom. The Plan, which was published in the Federal Register on July 27, 2005 (70 FR 43522), can be accessed on the Internet at the following site: http://www.ed.gov/legislation/FedRegister/other/2005-3/072705d.html).

Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Invitation To Comment

We invite you to submit comments regarding these proposed priorities and selection criterion. To ensure that your comments have maximum effect in developing the notice of final priorities, we urge you to identify clearly the specific proposed priority or selection criterion that each comment addresses.

We invite you to assist us in complying with the specific requirements of Executive Order 12866 and its overall requirement of reducing regulatory burden that might result from these proposed priorities and selection criterion. Please let us know of any further opportunities we should take to reduce potential costs or increase potential benefits while preserving the effective and efficient administration of the program.

During and after the comment period, you may inspect all public comments on this notice of proposed priorities in room 6030, 550 12th Street, SW., Potomac Center Plaza, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice of proposed priorities. If you want to schedule an appointment for this type of aid, please contact the person listed under FOR FURTHER INFORMATION CONTACT.

We will announce the final priorities and selection criterion in a notice in the Federal Register. We will determine the final priorities and selection criterion after considering responses to this notice and other information available to the Department. This notice does not preclude us from proposing or using additional priorities or selection criteria, subject to meeting applicable rulemaking requirements.

Note: This notice does not solicit applications. In any year in which we choose to use these proposed priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

Background

The SCIMS Program

In 1972, the U.S. Department of Health, Education, and Welfare established the national Spinal Cord Injury Model Systems (SCIMS) Program by funding four projects to provide comprehensive, multidisciplinary rehabilitation services to persons who experience Spinal Cord Injury (SCI) and to conduct research to foster advances in SCI rehabilitation. The SCIMS program became part of the research portfolio of NIDRR when NIDRR was established (initially as the National Institute of Handicapped Research) within the Department of Health, Education, and Welfare (now Education) in 1978.

The SCIMS program is designed to study the course of recovery and outcomes following the delivery of a coordinated system of care for individuals with SCI, which for purposes of this program is defined as a clinically discernible degree of neurologic impairment following a traumatic event. Since 1973, SCIMS programs have collected and contributed information on common data elements for a centralized SCI database, the SCIMS database, which is maintained through a NIDRR-funded grant for a National Data and Statistical Center. (Additional information on the SCIMS database can be found at http://www.spinalcord.uab.edu.) The data collected and contributed to the database thus far have involved more than 23,000 cases, with follow up data on some subjects covering a 30-year period post injury. There are certain criteria that must be met in order for a SCIMS program to include information relating to a particular subject in the database. Eligible subjects must—

(a) Be admitted to and receive care in at least one component of a model SCI system, including acute or surgical care, inpatient rehabilitation, outpatient rehabilitation, or day-hospitalization rehabilitation; (b) Be treated at a model SCI system within one year of the injury; (c) Sign a consent form and the Health Insurance Portability and Accountability Act of 1996 (HIPAA) authorization; (d) Reside in a geographic catchment area of the model system at the time of the injury; and (e) Be a U.S. citizen.

SCIMS Centers

There are currently 16 SCIMS centers funded by NIDRR. These centers provide comprehensive rehabilitation services to individuals with SCI and conduct spinal cord research, including clinical research and the analysis of standardized data in collaboration with other related projects.

Each SCIMS Center funded under this program establishes a multidisciplinary system for providing rehabilitation services specifically designed to meet the special needs of individuals with SCI. These services include acute care as well as periodic inpatient or outpatient follow up and vocational services. Centers demonstrate and evaluate the benefits and cost effectiveness of their systems for providing rehabilitation services to individuals with SCI and demonstrate and evaluate existing, new, and improved methods and equipment essential to the care, management, and rehabilitation of individuals with SCI. Centers also demonstrate and evaluate methods of community outreach and education for individuals with SCI in connection with the problems these individuals experience in such areas as housing, transportation, recreation, employment, and community activities. SCIMS centers engage in initiatives and new approaches and maintain close working relationships with other governmental and voluntary institutions and organizations to unify and coordinate scientific efforts, encourage joint planning, and promote the interchange of data and reports among SCI researchers.

The Conference Report accompanying the 2005 Appropriations Act noted that NIDRR was receiving additional funding for the SCIMS program and stated that the conferees intended that the additional funds be used to support investments that could facilitate multi-center research on SCI therapies and interventions, and the use of technology in providing SCI rehabilitation services. In order to plan for this expanded funding, NIDRR conducted a review of its current program and met with SCI organizations and Federal partners. The priorities and selection criterion proposed in this notice are the result of this review and subsequent discussions. It is NIDRR's intention that, through funding of projects under these priorities, the SCIMS program will serve as a platform for multi-site research that contributes to the formulation of practice guidelines to improve outcomes for individuals with SCI.

Proposed Priorities and Selection Criterion

In accordance with section 204(b)(4) of the Rehabilitation Act of 1973, as amended (Act), and 34 CFR part 359, Priority One will provide for the funding of SCIMS centers that will build upon the work of the current centers, to provide comprehensive rehabilitation services to individuals with SCI and conduct spinal cord research, including clinical research and the analysis of standardized data in collaboration with other related projects.

Priority Two, authorized under section 202 of the Act and 34 CFR part 350, will provide for the funding of Disability and Rehabilitation Research Projects (DRRP) that will conduct multi-site research that contributes to evidence-based rehabilitation interventions and clinical practice guidelines that improve the lives of individuals with SCI. These projects will serve the overall purpose of the DRRP program, which is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Act. DRRPs carry out one or more of the following types of activities, as specified in 34 CFR 350.13 through 350.19: research, development, demonstration, training, dissemination, utilization, and technical assistance. Additional information on the DRRP program can be found at: http://www.ed.gov/rschstat/research/pubs/res-program.html#DRRP.

The Department is interested in ensuring that grantees use rigorous methods to carry out multi-site research conducted under Priority Two. Therefore, we propose an additional criterion to address methods for carrying out multi-site research collaboration for Priority Two. This proposed criterion is intended to emphasize the importance of multi-site research collaboration.

To be eligible under Priority Two, an applicant must have received a grant under Priority One. The Department intends to announce the competition for Priority Two awards after selecting the grantees from the Priority One competition. Only successful applicants from the Priority One competition will be eligible to apply for awards under the Priority Two competition.

Proposed Priority One—SCIMS Centers

The Assistant Secretary proposes a priority for the funding of Spinal Cord Injury Model Systems (SCIMS) centers to conduct research that contributes to evidence-based rehabilitation interventions and clinical and practice guidelines that improve the lives of individuals with spinal cord injury (SCI). Each SCIMS center must—

1. Contribute to continued assessment of long-term outcomes of SCI by enrolling at least 30 subjects per year into the SCIMS database, following established protocols for the collection of enrollment and follow-up data on subjects;

2. Contribute to improved outcomes for persons with SCI by proposing and participating in at least one collaborative research module project, which may range from pilot research to more extensive studies (At the beginning of the funding cycle, the SCI model system directors, in conjunction with NIDRR, will select specific modules for implementation from the approved applications); and

3. Contribute to improved long-term outcomes of individuals with SCI by conducting one site-specific research project to test innovative approaches to treating and evaluating SCI outcomes in accordance with the focus areas identified in NIDRR's Proposed Long-Range Plan for FY 2005-2009 (Plan).

In carrying out these activities, applicants may select from the following research domains related to specific areas of the Plan: Health and function, employment, participation and community living, and technology for access and function.

In addition, applicants must address the following requirements:

• Provide a multidisciplinary system of rehabilitation care specifically designed to meet the needs of individuals with SCI. The system must encompass a continuum of care, including emergency medical services, acute care services, acute medical rehabilitation services, and post-acute services.

• Address the needs of people with disabilities including individuals from traditionally underserved populations.

• Coordinate with the NIDRR-funded Model Systems Knowledge Translation Center to provide scientific results and information for dissemination to clinical and consumer audiences.

• Ensure participation of individuals with disabilities in all aspects of SCIMS research.

Proposed Priority Two and Selection Criterion for SCIMS Multi-Site Research Projects

Proposed Priority

The Assistant Secretary proposes a priority for the funding of Spinal Cord Injury Model Systems (SCIMS) multi-site research projects to conduct research that contributes to evidence-based rehabilitation interventions and clinical practice guidelines that improve the lives of individuals with spinal cord injury (SCI).

To be eligible under this priority, an applicant must have received a grant under the SCIMS Centers priority. Following completion of a competition under the SCIMS Centers priority, the Department will invite successful applicants under that competition to apply for funding as a lead center under this SCIMS Multi-Site Research Projects priority.

Each SCIMS multi-site research project must—

1. Ensure utilization of SCIMS capacity by collaborating with three or more of the NIDRR-funded SCIMS centers (for a minimum of four SCIMS sites). Applicants may propose to include other SCI research sites that are not participating in a NIDRR-funded program in their multi-site research projects;

2. Contribute to improved long-term outcomes of individuals with SCI by conducting multi-site research on questions of significance to SCI rehabilitation, using clearly identified research designs. The research must focus on one or more specific domains identified in NIDRR's Proposed Long-Range Plan for FY 2005-2009 (Plan), including health and function, participation and community living, technology, and employment, and ensure that the research study has appropriate research hypotheses and methods to generate reliable and valid findings;

3. Demonstrate the capacity to carry out multi-site research projects, including the ability to coordinate research among centers; maintain data quality; and adhere to research protocols, confidentiality requirements, and data safety requirements; and

4. Specify start up activities that will be required to mount the proposed multi-site research project, including infrastructure requirements and measurement tools. Applicants must specify in their applications the amount requested, not to exceed $800,000, to cover these start-up costs.

In addition, applicants must address the following requirements:

• Address the needs of people with disabilities, including individuals from traditionally underserved populations.

• Coordinate with the NIDRR-funded Model Systems Knowledge Translation Center by providing scientific results and information for dissemination to clinical and consumer audiences.

• Ensure participation of individuals with disabilities in all aspects of model systems research.

Proposed Selection Criterion

In accordance with the provisions of 34 CFR 350.53 and 350.54 and in addition to the selection criteria specified in those sections, the Secretary proposes to consider the following factor in evaluating applications submitted under the SCIMS multi-site research projects priority:

The extent to which the applicant clearly documents its capacity to manage multi-site research projects, including administrative capabilities, experience with management of multi-site research protocols, and demonstrated ability to maintain standards for quality and confidentiality of data gathered from multiple sites.

Executive Order 12866

This notice of proposed priorities has been reviewed in accordance with Executive Order 12866. Under the terms of the order, we have assessed the potential costs and benefits of this regulatory action.

The potential costs associated with the notice of proposed priorities are those resulting from statutory requirements and those we have determined as necessary for administering these programs effectively and efficiently.

In assessing the potential costs and benefits—both quantitative and qualitative—of this notice of proposed priorities, we have determined that the benefits of the proposed priorities justify the costs.

Summary of Potential Costs and Benefits

The potential costs associated with these proposed priorities are minimal while the benefits are significant.

The benefits of the Special Projects and Demonstrations for Spinal Cord Injury and Disability and Rehabilitation Research Projects Programs have been well established over the years in that similar projects have been completed successfully. These proposed priorities will generate new knowledge and technologies through research, development, dissemination, utilization, and technical assistance projects.

Another benefit of these proposed priorities are that the establishment of new SCIMS centers and the DRRPs conducting SCIMS multi-site research projects will support the President's NFI and will improve the lives of persons with disabilities. These centers and DRRPs will generate, disseminate, and promote the use of new information that will improve the options for individuals with disabilities to perform regular activities in the community.

Applicable Program Regulations: 34 CFR parts 350 and 359.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133N, Model Spinal Cord Injury Centers and 84.133A, Disability Rehabilitation Research Projects) Program Authority: 29 U.S.C. 760, 764(a), and 764(b)(4).

Dated: December 7, 2005.
John H. Hager,
Assistant Secretary for Special Education and Rehabilitative Services.

[FR Doc. 05-23937 Filed 12-12-05; 8:45 am]

BILLING CODE 4000-01-P